ENVIRONMENTAL PROTECTION AGENCY

[EPA-HQ-ORD-2015-0765; FRL-12151-01-ORD]

Request for Nominations of Experts to the Office of Research and Development's Board of Scientific Counselors Advisory Committee

AGENCY: Environmental Protection Agency (EPA).

ACTION: Notice.

SUMMARY: The U.S. Environmental Protection Agency (EPA) is seeking nominations for technical experts to serve on its Board of Scientific Counselors (BOSC), a Federal advisory committee to the Office of Research and Development (ORD). Submission of nominations should be made via the BOSC website at: https://www.epa.gov/bosc.

DATES: Nominations should be submitted by September 6, 2024.

ADDRESSES: Please submit nominations by completing the nomination form provided on the BOSC website at https://www.epa.gov/bosc.

FOR FURTHER INFORMATION CONTACT: Any member of the public needing additional information regarding this Notice and Request for Nominations may contact Mr. Tom Tracy, Office of Science Advisor, Policy and Engagement, Office of Research and Development, Mail Code B343-01, 109 T.W. Alexander Drive, Research Triangle Park, NC 27711; via phone/voice mail at: (919) 541-4334; or via email at: tracy.tom@epa.gov. General information concerning the BOSC can be found at the following website: https://www.epa.gov/bosc.

SUPPLEMENTARY INFORMATION:

Background

The BOSC is a chartered Federal Advisory Committee established by the EPA to provide independent scientific and technical peer review, advice, consultation, and recommendations on ORD's research programs. As a Federal Advisory Committee, the BOSC conducts business in accordance with the Federal Advisory Committee Act (FACA) (5 U.S.C. app. 10) and related regulations.

The BOSC is comprised of an Executive Committee and one or more supporting subcommittee(s). Current subcommittees are: Social and Community Science, and Climate Change. All the work of BOSC subcommittees and ad-hoc panels is conducted under the auspices of the chartered BOSC Executive Committee. The BOSC Executive Committee members review all BOSC subcommittee and ad-hoc panel draft reports and determine whether each meets the BOSC's criteria and high-quality standards required to deliver them to the EPA Administrator. General information concerning the BOSC, including its charter, current membership, and activities can be found on the EPA website at: https://www.epa.gov/bosc.

BOSC Membership

Members of the BOSC constitute a distinguished body of non-EPA scientists, engineers, and economists who are experts in their respective fields. EPA will consider nominees from industry, business, public and private research institutes or organizations, academia, government (Federal, State, local, and Tribal) and non-government organizations, and other relevant interest areas. Members are appointed by the EPA Administrator to serve as special government employees and provide independent expert advice to the agency, for a maximum of six years of service. EPA compensates special government employees for their time and provides reimbursement for travel and other incidental expenses associated with official government business related to the BOSC meetings, as allowed.

Members of the BOSC are subject to the provisions of 5 CFR part 2634, Executive Branch Financial Disclosure, as supplemented by the EPA in 5 CFR part 6401. In anticipation of this requirement, each nominee will be asked to submit confidential financial information that fully discloses, among other financial interests, the candidate's employment, stocks and bonds, and where applicable, sources of research support. The information provided is strictly confidential and will not be disclosed to the public. Before a candidate is considered further for service on the BOSC, EPA will evaluate each candidate to assess whether there is any conflict of financial interest, appearance of a lack of impartiality, or prior involvement with matters likely to be reviewed by the Board.

Expertise Sought

The chartered BOSC provides scientific advice to the EPA Administrator on a variety of EPA science and research topics. EPA invites nominations of individuals to serve on the chartered BOSC with expertise or extensive experience in the following scientific disciplines and topic areas as they relate to human health and the environment:

Agronomy, Soil Science

Air Quality

Atmospheric Sciences

Biology and Microbiology

Chemistry (including Environmental)

Climate Science and Change

Community Engagement

Contaminated Site Remediation

Disaster Science

Ecology

Ecosystem Services

Emergency Management

Energy and the Environment

Environmental Economics

Environmental Engineering

Environmental Justice

Environmental Life Cycle Assessment

Environmental Modeling

Epidemiology

Exposure Science and Assessment

Forestry and Natural Resource Management

Information and Data Science

Materials/Waste Management

New Approach Methods

Novel Analytical Methods

Participatory Science (including Community and Citizen Science)

Physiologically Based Pharmacokinetic (PBPK) Modeling

Public Health

Research Program Evaluation

Risk Assessment (including Human Health, Ecological, Environmental)

Science Policy/Public Policy

Social, Behavioral and Decision Sciences

Sustainability

Systems Science

Toxicology

Water Quality (including drinking water, surface water, groundwater)

Water Quantity and Reuse

Watershed Management

Submission of Nominations

To nominate a candidate for consideration or self-nominate, please visit the BOSC website at https://www.epa.gov/bosc to access and complete the nomination form. Nominations should be submitted no later than 11:59 p.m., September 6, 2024. To receive full consideration, nominations should include all information requested. EPA's nomination form requests: contact information about the person making the nomination; contact information about the nominee; the disciplinary and specific areas of expertise of the nominee; committee preference; the nominee's curriculum vita and/or resume; and additional information that would be useful for considering the nomination such as background and qualifications (e.g., current position, educational background, expertise, research areas), experience relevant to one or more of ORD's research programs, service on other advisory committees and professional societies, and availability to participate as a member of the Executive Committee and/or Subcommittee. EPA values and welcomes diversity. To obtain nominations of diverse candidates, EPA encourages all qualified candidates to apply regardless of gender, race, disability, or ethnicity, as well as from a variety of backgrounds (e.g., tribal, industry, non-profit organizations, academia, and government). Persons having questions about the nomination procedures, or who are unable to submit nominations through the BOSC website, should contact Mr. Tom Tracy, as indicated above under FOR FURTHER INFORMATION CONTACT section of this notice.

Evaluation of Nominations

The BOSC is a balanced and diverse board of experts designed to possess the necessary domains of expertise, depth and breadth of knowledge, and diverse and balanced scientific perspectives to best support the needs of the EPA's ORD. Nominations will be evaluated on the basis of several criteria including: (a) demonstrated scientific and/or technical credentials and disciplinary expertise, knowledge, and experience in relevant fields; (b) availability to serve and willingness to commit time to the committee (approximately one to three meetings per year both by teleconferences and possibly face-to-face meetings); (c) absence of financial conflicts of interest; (d) absence of an appearance of a lack of impartiality; (e) demonstrated ability to work constructively and effectively on committees; and (f) background and experiences that would contribute to the diversity of viewpoints on the Executive Committee, e.g., workforce sector, geographical location, social, cultural, and educational backgrounds, and professional affiliations.

To help the Agency in evaluating the effectiveness of its outreach efforts, nominees and nominators are requested to inform the Agency of how you learned of this opportunity when completing the nomination form.

Final selection of BOSC members is a discretionary function of the Agency and will be announced as soon as selections are made on the BOSC website at https://www.epa.gov/bosc.

Kathleen Deener,
Acting Director, Office of Science Advisor, Policy and Engagement.

[FR Doc. 2024-18373 Filed 8-15-24; 8:45 am]

BILLING CODE 6560-50-P